DEPARTMENT OF TRANSPORTATION

Pipeline and Hazardous Materials Safety Administration

[Docket No. PHMSA-2006-26596; Notice No. 06-6]

Safety Advisory: Unauthorized Marking of Compressed Gas Cylinders

AGENCY: Pipeline and Hazardous Materials Safety Administration (PHMSA), DOT.

ACTION: Safety advisory notice.

SUMMARY: This is to notify the public that we (PHMSA) have discovered the unauthorized marking of high-pressure compressed gas cylinders, mainly cylinders containing welding gases, fire extinguishers, and self-contained breathing apparatus, by Consulting and Safety Specialists, Inc. (CSSI), located at 924 Lefort Bypass, Thibodaux, LA 70301.

On November 30, 2006, an inspector from PHMSA's Office of Hazardous Materials Enforcement (OHME) conducted a compliance inspection of CSSI. As a result of that inspection, PHMSA has determined that CSSI did not hold a valid Requalifier Identification Number issued by DOT while requalifying (inspecting, testing, or certifying) high-pressure compressed gas cylinders. In addition, CSSI marked and certified an undetermined number of DOT specification and/or special permit high-pressure compressed gas cylinders as being properly tested in accordance with the Hazardous Materials Regulations (HMR), when it had not verified its equipment to be accurate as required by the HMR.

A hydrostatic requalification and visual inspection, conducted as prescribed in the HMR, are used to verify the structural integrity of a cylinder. If the hydrostatic requalification and visual inspection are not performed in accordance with the HMR, a cylinder with compromised structural integrity may have been returned to service when it should have been condemned. Extensive property damage, serious personal injury, or death may result from rupture of a cylinder. Cylinders that have not been requalified in accordance with the HMR may not be charged or filled with compressed gas or other hazardous material and offered for transportation in commerce.

FOR FURTHER INFORMATION CONTACT: Billy C. Hines, Jr., Chief, Southwest Region, Office of Hazardous Materials Enforcement, Pipeline and Hazardous Materials Safety Administration, U.S. Department of Transportation, 8701 South Gessner Road, Suite 1110, Houston, TX 77074. Telephone: (713) 272-2820, Fax: (713) 272-2821.

SUPPLEMENTARY INFORMATION: The Hazardous Materials Regulations (HMR), 49 CFR Parts 171-180, prescribe requirements for the periodic requalification of cylinders used in transportation of compressed gases. In order to perform hydrostatic requalification of compressed gas cylinders, a person (including a company) must obtain an approval and Requalification Identification Number (RIN) from PHMSA. See 49 CFR 107.805 and 180.205(b). PHMSA issued RIN C381 to CSSI on October 25, 1989 to requalify high-pressure gas cylinders. CSSI's RIN expired on October 25, 1994 and it has not applied to renew its approval to requalify cylinders since that date. Therefore, CSSI is no longer authorized to requalify DOT specification and special permit cylinders.

Based on our investigation, PHMSA has concluded that, over the past three years, CSSI marked, certified and returned to service an undetermined number of high-pressure gas cylinders as having been properly tested in accordance with the HMR when requalifying was performed on test equipment that was not verified to be accurate as required by the HMR.

The cylinders in question are stamped with RIN C381 in the following pattern:

C 3

M Y

18

M is the month of requalification (e.g., 01, 02, etc.), and Y is the last two digits of the year of the requalification (e.g., 01, 02, 03).

All high-pressure gas cylinders that have been marked and certified as having been hydrostatically tested by CSSI since June 2003 may pose a safety risk to the public and should be considered unsafe for use in hazardous materials service until properly requalified by a DOT-authorized requalification facility.

Anyone possessing a high-pressure gas cylinder, hydrostatically tested by CSSI between June 2003 and May 2006, and has not had the cylinder tested by a DOT-authorized facility since then, should consider the cylinder unsafe and not fill it with a hazardous material unless the cylinder is first properly requalified by a DOT-authorized requalification facility. Cylinders described in this safety advisory that are filled with an atmospheric gas should be vented or otherwise safely discharged and then taken to a DOT-authorized cylinder requalification facility for proper requalification to determine compliance with the HMR and their suitability for continuing service. Cylinders described in this safety advisory that are filled with a material other than an atmospheric gas should not be vented, but instead should be safely discharged, and then taken to a DOT-authorized cylinder requalification facility for proper test to determine compliance with the HMR and their suitability for continuing service. Mr. Billy C. Hines, Jr., Chief, Southwest Region, can provide a list of authorized requalification facilities in your area, or you may obtain the list at the following Web site: http://hazmat.dot.gov. Under no circumstance should a cylinder described in this safety advisory be filled, refilled or used for its intended purpose until it is re-inspected and requalified by a DOT-authorized requalification facility.

PHMSA requests that any person possessing a cylinder described in this safety advisory telephone or provide a facsimile to Mr. Hines with the following information for each cylinder: (1) The cylinder manufacturer's name, (2) the serial number of the cylinder, (3) the DOT specification or special permit information for the cylinder, and (4) the month and year of the last requalification date marked by CSSI.

Issued in Washington, DC, on December 18, 2006.
Robert A. McGuire,
Associate Administrator for Hazardous Materials Safety.

[FR Doc. E6-21994 Filed 12-22-06; 8:45 am]

BILLING CODE 4910-60-P